NUCLEAR REGULATORY COMMISSION

Advisory Committee on Reactor Safeguards, Ad Hoc Subcommittee Meeting on Early Site Permit Applications; Notice of Meeting

The ACRS Ad Hoc Subcommittee on Early Site Permit Applications will hold a meeting on March 2, 2005, Room T-2B3, 11545 Rockville Pike, Rockville, Maryland.

The entire meeting will be open to public attendance.

The agenda for the subject meeting shall be as follows: Wednesday, March 2, 2005—1 p.m. until 5 p.m.

The Subcommittee will review and discuss the North Anna Draft Safety Evaluation Report for early site permit, and the industry proposed plant parameter envelope information. The Subcommittee will hear presentations by and hold discussions with representatives of the NRC staff and Dominion Nuclear regarding this matter. The Subcommittee will gather information, analyze relevant issues and facts, and formulate proposed positions and actions, as appropriate, for deliberation by the full Committee.

Members of the public desiring to provide oral statements and/or written comments should notify the Designated Federal Official, Dr. Medhat M. El-Zeftawy (telephone 301-415-6889) between 7:30 a.m. and 5 p.m. (e.t.) five days prior to the meeting, if possible, so that appropriate arrangements can be made. Electronic recordings will be permitted.

Further information regarding this meeting can be obtained by contacting the Designated Federal Official between 7:30 a.m. and 5 p.m. (e.t.). Persons planning to attend this meeting are urged to contact the above named individual at least two working days prior to the meeting to be advised of any potential changes to the agenda.

Dated: February 9, 2005.
John H. Flack,
Acting Branch Chief, ACRS/ACNW.

[FR Doc. 05-2855 Filed 2-14-05; 8:45 am]

BILLING CODE 7590-01-P